DEPARTMENT OF THE INTERIOR

Office of the Secretary

[Docket No. ONRR-2012-0003]

Establishment of the U.S. Extractive Industries Transparency Initiative Advisory Committee and Request for Nominees

AGENCY: Office of Natural Resources Revenue, Interior.

ACTION: Notice.

SUMMARY: The U.S. Department of the Interior is establishing and seeking nominations for the U.S. Extractive Industries Transparency Initiative (USEITI) Advisory Committee. The Committee is being established to advise the Department on the implementation the Extractive Industries Transparency Initiative (EITI), which requires governments to publicly disclose their revenues from oil, gas, and mining assets and for companies to make parallel disclosures regarding payments. The Committee will serve as the initial Multi-Stakeholder Group and its duties will include consideration and fulfillment of the tasks required to achieve candidate and compliant status in the EITI.

DATES: Submit nominations to the Committee by August 27, 2012.

ADDRESSES: You may submit nominations to the Committee by any of the following methods.

• Mail or hand-carry nominations to Ms. Shirley Conway; Department of the Interior; Office of Natural Resources Revenue; 1801 Pennsylvania Avenue NW., Suite 400; Washington, DC 20006.

• Email nominations to Shirley.Conway@onrr.gov or EITI@ios.doi.gov

FOR FURTHER INFORMATION CONTACT: Shirley Conway, Office of Natural Resources Revenue; telephone (202) 254-5554; fax (202) 254-5589; email Shirley.Conway@onrr.gov. Mailing address: Department of the Interior; Office of Natural Resources Revenue; 1801 Pennsylvania Avenue NW., Suite 400; Washington, DC 20006.

SUPPLEMENTARY INFORMATION: We, the Department of the Interior, announce the establishment of the U.S. Extractive Industries Transparency Initiative (USEITI) Advisory Committee. We are establishing the committee in accordance with the provisions of the Federal Advisory Committee Act (FACA), as amended (5 U.S.C. App. 2), and with the concurrence of the General Services Administration.

The Committee will:

• Serve as the initial Multi-Stakeholder Group (MSG) to oversee the U.S. implementation of the Extractive Industries Transparency Initiative (EITI), a global standard for governments to publicly disclose revenues received from oil, gas, and mining assets belonging to the government, with parallel public disclosure by companies of payments to the government (e.g. royalties, rents, bonuses, taxes, or other payments).

• Develop and recommend to the Secretary a fully-costed work plan, containing measurable targets and a timetable for implementation, and incorporating an assessement of capacity contraints. This plan shall be developed in consultation with key EITI stakeholders and published upon completion.

• Provide opportunities for collaboration and consultation among stakeholders.

• Advise the Secretary and post for consideration by other stakeholders proposals for conducting long-term oversight and other activities necessary to achieve EITI candidate and compliant status.

We are seeking nominations for individuals to be considered as Committee members. Nominations should include a resume providing an adequate description of the nominee's qualifications, including information that would enable the Department of the Interior to make an informed decision regarding meeting the membership requirements of the Committee and permit the Department of the Interior to contact a potential member. We strongly encourage that parties work with and within stakeholder sectors (including industry, civil society, and government sectors, as the EITI process defines) to jointly consider and submit nominations that reflect the diversity and breadth of their sector.

Members of the Committee will include non-Federal representatives from the extractive industry, including oil, gas, and mining companies and industry-related trade associations; civil society, including organizations with interest in the extractive industry, transparency, and government oversight and members of the public; State and local governments; and Tribal governments and individual Indian mineral owners. Federal members of the Committee will include representatives of the Office of Natural Resources Revenue, the Bureau of Indian Affairs, the Department of the Treasury, the Department of State, and the Department of Energy. The Committee will consist of approximately 21—but no more than 27—members to represent a range of interests concerned with implementation of EITI. In addition to honoring the EITI principle of self-selection within stakeholder sectors (industry, civil society, and government), the following criteria will be considered in making final selections:

(1) Understanding of and commitment to the EITI process.

(2) Ability to collaborate and operate in a multi-stakeholder setting.

(3) Access to and support from a relevant stakeholder constituency and authority to make decisions on its behalf.

(4) Basic understanding of the extractive industry and/or revenue collection or willingness to be educated on such matters.

(5) Ability to represent U.S.-based constituents, organizations, and institutions, or companies with significant operations in the U.S.

No individual who is currently registered as a Federal lobbyist is eligible to serve as a member of the Committee.

The Committee will meet quarterly or at the request of the Designated Federal Officer. Members of the Committee will serve without compensation. However, we may pay the travel and per diem expenses of Non-Federal Committee members, if appropriate, under the Federal Travel Regulations.

Background: In September 2011, President Barack Obama announced the United States' commitment to participate in the Extractive Industries Transparency Initiative. EITI is a signature initiative of the U.S. National Action Plan for the international Open Government Partnership and offers a voluntary framework for governments and companies to publicly disclose, in parallel, the revenues paid and received for extraction of oil, gas, and minerals that belong to the government.

Each framework is country-specific, and is the result of a multi-year, consensus-based process by a multi-stakeholder group comprised of government, industry, and civil society representatives. On October 25, 2011, President Obama named Secretary of the Interior Ken Salazar as the U.S. Senior Official responsible for implementing USEITI. In response, Secretary Salazar posted an entry on a White House blog that same day committing to work with industry and civil society to implement USEITI. To ensure the best possible job of stakeholder outreach, we retained an independent facilitator, the Consensus Building Institute (CBI), to conduct a stakeholder assessment as part of the USEITI implementation process.

On February 24, 2012 (74 FR 11151), we published a notice in the Federal Register seeking public comment on formation of a multi-stakeholder group to implement USEITI. In that notice, we committed to a series of public listening sessions to provide additional opportunities for public comment. In March 2012, we conducted listening sessions in St. Louis, Missouri; Denver, Colorado; Houston, Texas; and Washington, DC. CBI analyzed the input from these four public listening sessions, interviews with potential stakeholders, and written comments submitted to Interior. The input formed the basis of CBI's draft stakeholder assessment and findings regarding options for establishing the United States' multi-stakeholder group.

On May 3, 2012 (77 FR 26315), we published a notice in the Federal Register announcing a second public comment period, from May 18 through June 29, 2012, seeking feedback on CBI's draft stakeholder assessment and the recommended options for establishing the United States' multi-stakeholder group, which was published on May 18, 2012. As part of the second comment period, we held three public listening sessions in Anchorage, Alaska; Pittsburgh, Pennsylvania; and New Orleans, Louisiana; a public webinar; and a USEITI public workshop on June 22, 2012, in Washington, DC.

CBI analyzed the input from these public listening sessions, written comments submitted to Interior, and comments and issues raised by stakeholders at the June 22, 2012, USEITI public workshop. This input formed the basis of CBI's final stakeholder assessment and findings regarding establishment of the United States' multi-stakeholder group.

On July 11, 2012 (77 FR 40893), we published a notice in the Federal Register announcing publication of CBI's final assessment regarding options for forming a United States' multi-stakeholder group that will be responsible for determining the implementation of USEITI. The assessment stated that the two viable and preferred options for standing up the MSG were a non-federal entity or a new federal advisory committee. Based on the results of the assessment and input received at the June 22, 2012 USEITI public workshop, Interior decided to form a new federal advisory committee to serve as the initial form of the MSG. A new federal advisory committee would have the benefit of following a frequently-used procedure within the U.S. government's legal framework, and would allow the U.S. government to satisfy its convening responsibilities, while providing a forum for the MSG to serve its role in overseeing USEITI implementation.

Certification Statement: I hereby certify that the U.S. Extractive Industries Transparency Initiative (USEITI) Advisory Committee is necessary, is in the public interest, and is established under the authority of the Secretary of the Interior, in support of the Open Government Partnership and the commitment in the United States' National Action Plan to implement the Extractive Industries Transparency Initiative.

Dated: July 24, 2012.
Ken Salazar,
Secretary, Department of the Interior.

[FR Doc. 2012-18432 Filed 7-26-12; 8:45 am]

BILLING CODE 4310-MR-P